DEPARTMENT OF AGRICULTURE

Animal and Plant Health Inspection Service

[Docket No. APHIS-2020-0036]

Notice of Availability of an Environmental Assessment for Release of Ramularia Crupinae for Biological Control of Common Crupina (Crupina vulgaris) in the Contiguous United States

AGENCY: Animal and Plant Health Inspection Service, USDA.

ACTION: Notice of availability.

SUMMARY: We are advising the public that the Animal and Plant Health Inspection Service has prepared an environmental assessment relative to permitting the release of Ramularia crupinae for the biological control of common crupina (Crupina vulgaris) in the contiguous United States. Based on the environmental assessment and other relevant data, we have reached a preliminary determination that the release of this control agent within the contiguous United States will not have a significant impact on the quality of the human environment. We are making the environmental assessment available to the public for review and comment.

DATES: We will consider all comments that we receive on or before November 30, 2020.

ADDRESSES: You may submit comments by either of the following methods:

• Federal eRulemaking Portal: Go to http://www.regulations.gov/#!docketDetail;D=APHIS-2020-0036.

• Postal Mail/Commercial Delivery: Send your comment to Docket No. APHIS-2020-0036, Regulatory Analysis and Development, PPD, APHIS, Station 3A-03.8, 4700 River Road, Unit 118, Riverdale, MD 20737-1238.

Supporting documents and any comments we receive on this docket may be viewed at http://www.regulations.gov/#!docketDetail;D=APHIS-2020-0036 or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327; email: Colin.Stewart@usda.gov.

SUPPLEMENTARY INFORMATION: The Animal and Plant Health Inspection Service (APHIS) is proposing to issue permits for the release of Ramularia crupinae into the contiguous United States for the biological control of common crupina (Crupina vulgaris).

Common crupina, a winter annual, is spreading in pastures and rangelands resulting in a reduction in quality of forage as it displaces other species in the northwestern United States; it is a native of Eurasia, most likely originating in the Middle East. Common crupina may grow from 0.3 to 1.0 meter in height, having inconspicuous flowers ranging from lavender to purple, as well as rosettes that develop through the fall and winter.

Ramularia crupinae, a leaf-spotting fungus, was chosen as a potential biological control agent of C. vulgaris in the contiguous United States over other management options because it is host-specific.

APHIS' review and analysis of the potential environmental impacts associated with the proposed release are documented in detail in an environmental assessment (EA) entitled “Field Release of the Plant Fungus Ramularia crupinae (Deuteromycotina) for Classical Biological Control of Common Crupina, Crupina vulgaris (Asteraceae), in the Contiguous United States” (March 2020). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 21st day of October 2020.
Michael Watson,
Acting Administrator, Animal and Plant Health Inspection Service.

[FR Doc. 2020-24125 Filed 10-29-20; 8:45 am]

BILLING CODE 3410-34-P